COMMODITY FUTURES TRADING COMMISSION

Request of the Cantor Exchange (CX) for Approval of its US Treasury Ten-Year Note Futures Contract

Correction

In notice document 01-3762 appearing on page 10273 in the issue of Wednesday, February 14, 2001, make the following correction:

On page 10273, in the second column, under the heading ADDRESSES, in the ninth line, the facsimile number “(202) 481-5521” should read, “(202) 418-5521”.

[FR Doc. C1-3762 Filed 3-5-01; 8:45 am]

BILLING CODE 1505-01-D

DEPARTMENT OF TRANSPORTATION

Federal Aviation Administration

14 CFR Part 39

[Docket No. 2000-SW-11-AD; Amendment 39-11959; AD 2000-22-13]

RIN 2120-AA64

Airworthiness Directives; Bell Helicopter Textron Canada Model 430 Helicopters

Correction

In rule document 00-28235 beginning on page 66617 in the issue of Tuesday, November 7, 2000, the docket number is corrected to read as set forth above.

[FR Doc. C0-28235 Filed 3-5-01; 8:45 am]

BILLING CODE 1505-01-D

DEPARTMENT OF THE TREASURY

Internal Revenue Service

26 CFR Part 1

[TD 8921]

RIN 1545-AY23

Tax Treatment of Cafeteria Plans

Correction

In rule document 01-258 beginning on page 1837 in the issue of Wednesday, January 10, 2001, make the following correction:

On page 1838, in the first column, in footnote 5, in the second line, “group-item life” should read “group-term”.

[FR Doc. C1-258 Filed 3-5-01; 8:45 am]

BILLING CODE 1505-01-D